DEPARTMENT OF HEALTH AND HUMAN SERVICES

National Institutes of Health

Office of Biotechnology Activities: Recombinant DNA Research: Proposed Actions Under the NIH Guidelines

Correction

In notice document 00-31524 beginning on page 77655, in the issue of Tuesday, December 12, 2000, make the following correction:

1. On page 77655, in the third column, under the heading DATES:, in the seventh line, “ February 10, 2002” should read “ February 12, 2001”.

2. On page 77656, in the first column, in the second paragraph, in the last line, after “URL:” add “http://www.nih.gov/about/director/07122000.htm.”.

[FR Doc. C0-31524 Filed 12-14-00; 8:45 am]

BILLING CODE 1505-01-D